DEPARTMENT OF HEALTH AND HUMAN SERVICES

Administration for Children and Families

Administration on Children, Youth and Families Children's Bureau

AGENCY: Children's Bureau, Administration on Children, Youth and Families, Administration for Children and Families.

ACTION: Single-Source Program Expansion Supplement.

CFDA: 93.670.

Legislative Authority: Title II Child Abuse Prevention and Treatment Act [42 U.S.C. 5116 et seq.]

Amount of Award: $250,000 for one year.

Project Period: 9/30/2006-9/29/2007.

Justification for the supplement: The program expansion supplement will increase the capacity of the FRIENDS National Resource Center for Community-Based Child Abuse Prevention (CBCAP) to provide training and technical assistance to State formula grantees.

Contact for Further Information: Melissa Lim Brodowski, Children's Bureau, Portals Building, Suite 8127, 1250 Maryland Avenue, SW., Washington, DC 20024.

Telephone Number: (202) 205-2629.

Dated: September 27, 2006.
Joan E. Ohl,
Commissioner, Administration on Children, Youth and Families.

[FR Doc. E6-16361 Filed 10-3-06; 8:45 am]

BILLING CODE 4184-01-P